DEPARTMENT OF DEFENSE

Department of the Navy

Notice of Availability of Government-Owned Invention; Available for Licensing

AGENCY: Department of the Navy, DOD.

ACTION: Notice.

SUMMARY: The following invention is assigned to the United States Government as represented by the Secretary of the Navy and is made available for licensing by the Department of the Navy. U.S. Patent Number 6,502,696 entitled “Strapless Pallet.”

ADDRESSES: Requests for copies of the patent cited should be directed to the Naval Surface Warfare Center, Indian Head Division, Code 05T, 01 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: March 11, 2003.
Robert E. Vincent II,
Lieutenant Commander, Judge Advocate General's Corps, U.S. Navy, Federal Register Liaison Officer.

[FR Doc. 03-6833 Filed 3-20-03; 8:45 am]

BILLING CODE 3810-FF-P